DEPARTMENT OF HEALTH AND HUMAN SERVICES

Centers for Disease Control and Prevention

[60Day-12-12MQ]

Proposed Data Collection Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570; send comments to Kimberly S. Lane, 1600 Clifton Road, MS D-74, Atlanta, GA 30333; or send an email to omb@cdc.gov.

Comments are invited on (a) whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the Young Sisters Initiative: A Guide to A Better You! Program—New—National Center for Chronic Disease Prevention and Health Promotion (NCCDPHP), Centers for Disease Control and Prevention (CDC).

Background and Brief Description

Despite lower breast cancer incidence rates, African American women in the United States are known to experience disproportionately higher breast cancer mortality rates relative to other racial groups. This may be due to disparities in cancer screening and treatment and/or the higher frequency of aggressive breast cancer types found within this population. It is also known that younger women tend to experience more difficult adaptation and quality of life following breast cancer diagnosis. Factors may include impact of the diagnosis on emotional function, the need to balance work-home responsibilities including child-rearing, and concerns about changes in fertility due to cancer treatment. Many decisions that affect fertility are irreversible once treatment begins, but counseling about these issues may be overlooked during the time-sensitive decision-making process prior to initiating treatment.

In 2010, the Centers for Disease Control and Prevention (CDC) launched the Breast Cancer in Young Women (BCYW) project to raise awareness about these issues among young breast cancer survivors (YBCS) and to provide psychosocial and reproductive health support to women who are diagnosed before age 45. The BCYW project is a three-year project to identify, strengthen, and promote real-world, evidence-based interventions that support young breast cancer survivors (YBCS). A key component of the BCYW program is the design, testing, implementation and evaluation of the Young Sisters Initiative: A Guide to A Better You (YSI) program.

The YSI program is a Web-based intervention designed to provide African American YBCS with culturally tailored psychosocial and reproductive health information to support their needs as cancer survivors. ICF International, CDC, and Sisters Network, Inc. (SNI), a national cancer advocacy organization, are developing the YSI program. A Web site to house the YSI is currently under development. Upon completion, the YSI Web site will provide users with informational materials, videos by African American YBCS, survivor stories, and links to other breast cancer support resources. To recruit women to participate in the YSI program, SNI and its partners will link women to the YSI Web site from the SNI Web site at www.sistersnetworkinc.org.

CDC, in conjunction with ICF International, plans to conduct a process evaluation of YSI program implementation. Information will be collected to assess whether the culturally tailored, knowledge- and awareness-building YSI program can be implemented with fidelity; reach its target audience of African American YBCS; and deliver effective psychosocial and reproductive health information and support. The process evaluation will also collect information to improve understanding of facilitators and barriers to YSI program recruitment and implementation, and to assess how the program might be adapted for use with other audiences.

Primary information collection will consist of two Web-based surveys of YSI program users, conducted before and after exposure to YSI program materials. The initial five-minute demographic screener will be conducted when users encounter the YSI Web site. Respondents will be asked to provide demographic and medical information necessary for identifying members of the target YSI program audience, and to indicate their willingness to complete a brief, online post-YSI program use survey one to two weeks after their initial YSI program Web site visit. The post-YSI program use survey will be conducted after YSI Web site users have time to review the site and materials. The estimated burden for the post-YSI program use survey is 20 minutes. Respondents will be asked questions about the usefulness of resources posted on the YSI Web site and satisfaction with the site. No personally identifiable information will be collected. No information will be collected directly from YSI Web site users before, during and after the six-month implementation and evaluation of the YSI program.

Two secondary sources of information will be used to supplement the process evaluation data collection, but will not impose burden on YSI Web site users. First, CDC's evaluation contractor will use information obtained through Google Analytics to assess how visitors (particularly the target audience) navigate and use the YSI Web site. In addition, the evaluation contractor will conduct a limited number of telephone interviews with SNI staff and SNI-identified recruitment partners before and after the YSI implementation to assess fidelity to the YSI program core components and identify any facilitators and/or barriers experienced during program implementation.

CDC will use the results of the process evaluation to inform future efforts to support and educate YBCS in vulnerable/minority populations. OMB approval is requested for one year. Participation in the information collection is voluntary, and there are no costs to respondents other than their time.

Estimated Annualized Burden Hours
Type of respondents | Form name | Number of respondents | Number of responses per respondent | Average burden per response (in hr) | Total burden (in hr)
YSI Web site users | YSI Program Demographic Screener | 500 | 1 | 5/60 | 42
| YSI Program Post-Use Survey | 300 | 1 | 20/60 | 100
Total |  |  |  |  | 142

Kimberly S. Lane,
Deputy Director, Office of Scientific Integrity, Office of the Associate Director for Science, Office of the Director, Centers for Disease Control and Prevention.

[FR Doc. 2012-13670 Filed 6-5-12; 8:45 am]

BILLING CODE 4163-18-P